DEPARTMENT OF THE INTERIOR

Bureau of Land Management

[LLAZ956000.L14200000.BJ0000.241A]

Notice of Filing of Plats of Survey; Arizona

AGENCY: Bureau of Land Management, Interior.

ACTION: Notice of filing of plats of survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey of a portion of the Base Line in Townships 1 North, Ranges 17, 18 and 19 East, accepted January 26, 2012, and officially filed January 31, 2012, for Group 1074, Arizona.

This plat was prepared at the request of the Bureau of Indian Affairs, Western Regional Office.

The plat representing the survey of the east and west boundaries and a portion of the subdivisional lines, Townships 1 North, Ranges 18 East, accepted January 26, 2012, and officially filed January 31, 2012, for Group 1074, Arizona.

This plat was prepared at the request of the Bureau of Indian Affairs, Western Regional Office.

The plat (in 8 sheets) representing the survey of Mineral Survey Number 4898, Township 2 South, Range 12 East, and Townships 1 and 2 South, Range 13 East, accepted February 10, 2012, for Group MS4898, Arizona.

This plat was prepared at the request of the Resolution Copper Mining, LLC.

The plat representing the survey of the south boundary, the east boundary and the subdivisional lines, Township 1 South, Range 18 East, accepted January 26, 2012, and officially filed January 31, 2012, for Group 1074, Arizona.

This plat was prepared at the request of the Bureau of Indian Affairs, Western Regional Office.

The plat representing the survey of a portion of the east boundary and a portion of the subdivisional lines, Township 2 South, Range 18 East, accepted February 6, 2012, and officially filed February 9, 2012, for Group 1074, Arizona.

This plat was prepared at the request of the Bureau of Indian Affairs, Western Regional Office.

The plat representing the dependent resurvey of portions of the west and north boundaries and the survey of a portion of the subdivisional lines, Township 3 South, Range 18 East, accepted February 6, 2012, and officially filed February 9, 2012, for Group 1074, Arizona.

This plat was prepared at the request of the Bureau of Indian Affairs, Western Regional Office.

The plat representing the establishment of the northeast corner of the township and the survey of a portion of the subdivisional lines, Township 1 South, Range 19 East, accepted February 6, 2012, and officially filed February 9, 2012, for Group 1074, Arizona.

This plat was prepared at the request of the Bureau of Indian Affairs, Western Regional Office.

The plat representing the dependent resurvey of a portion of the south boundary, the establishment of the southeast corner of the township and the survey of the north boundary and a portion of the subdivisional lines, Township 2 South, Range 19 East, accepted February 6, 2012, and officially filed February 9, 2012, for Group 1074, Arizona.

This plat was prepared at the request of the Bureau of Indian Affairs, Western Regional Office.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Dated: March 9th, 2012.
Stephen K. Hansen,
Chief Cadastral Surveyor of Arizona.

[FR Doc. 2012-6245 Filed 3-14-12; 8:45 am]

BILLING CODE 4310-32-P